DEPARTMENT OF ENERGY

Federal Energy Regulatory Commission

[Docket No. ER02-709-000, et al.]

Southwest Power Pool, Inc., et al.; Electric Rate and Corporate Regulation Filings

October 7, 2002.

The following filings have been made with the Commission. The filings are listed in ascending order within each docket classification.

1. Southwest Power Pool, Inc.

[Docket No. ER02-709-000]

Take notice that on October 2, 2002, Southwest Power Pool, Inc. (SPP), submitted a notice of withdrawal of the unexecuted service agreement filed January 7, 2002 in this proceeding. A copy of this filing was served on all parties included on the Commission's official service list established in this proceeding.

Comment Date: October 23, 2002.

2. Covanta Fairfax, Inc.

[Docket No. ER02-2515-001]

Take notice that on October 3, 2002, Covanta Fairfax, Inc. tendered for filing a Notice of Succession to reflect a name change from Ogden Fairfax, Inc. to Covanta Fairfax, Inc. Copies of the filing were served upon the Virginia Corporation Commission and on Dominion Virginia Power.

Comment Date: October 24, 2002.

3. Edison Source

[Docket No. ER02-2565-001]

Take notice that on October 3, 2002, Edison Source tendered for filing with the Federal Energy Regulatory Commission (Commission) an amendment to its filing in the above-referenced docket withdrawing its participation in the Western Systems Power Pool (WSPP) pursuant to the Power Purchase and Sale Agreement between Edison Source and the WSPP, dated August 26, 1996. Edison Source requests to withdraw its participation as of October 15, 2002.

Comment Date: October 24, 2002.

4. New England Power Pool

[Docket No. ER03-1-000]

Take notice that on October 1, 2002, the New England Power Pool (NEPOOL) Participants Committee filed for acceptance materials to permit NEPOOL to expand its membership to include WebGen Systems Inc. (WebGen). The Participants Committee requests an October 1, 2002 effective date for commencement of participation in NEPOOL by WebGen.

The Participants Committee states that copies of these materials were sent to the New England state governors and regulatory commissions and the Participants in NEPOOL.

Comment Date: October 22, 2002.

5. Ameren Services Company

[Docket No. ER03-2-000]

Take notice that on October 1, 2002, Ameren Services Company (ASC) tendered for filing a Service Agreement for Long-Term Firm Point-to-Point Services between ASC and Ameren Energy, Inc. ASC asserts that the purpose of the Agreement is to permit ASC to provide transmission service to Ameren Energy, Inc. pursuant to Ameren's Open Access Transmission Tariff.

Comment Date: October 22, 2002.

6. PPL Electric Utilities Corporation

[Docket No. ER03-3-000]

Take notice that on October 1, 2002, PPL Electric Utilities Corporation (PPL Electric) filed an unexecuted Interconnection Agreement between PPL Electric and Allegheny Electric Cooperative, Inc. for interconnection at the Renovo/Chapman delivery point.

Comment Date: October 22, 2002.

7. PPL Electric Utilities Corporation

[Docket No. ER03-4-000]

Take notice that on October 1, 2002, PPL Electric Utilities Corporation (PPL Electric) filed an unexecuted Interconnection Agreement between PPL Electric and Allegheny Electric Cooperative, Inc. for interconnection at the Fairfield delivery point.

PPL Electric requests an effective date of February 1, 2002.

Comment Date: October 22, 2002.

8. Midwest Independent Transmission System Operator, Inc.

[Docket No. ER03-5-000]

Take notice that on October 2, 2002, pursuant to Section 205 of the Federal Power Act and Section 35.12 of the Commission's regulations, 18 CFR 35.12, the Midwest Independent Transmission System Operator, Inc. (Midwest ISO) submitted for filing an Interconnection and Operating Agreement among GM Transmission, LLC, the Midwest ISO and Northern States Power Company d/b/a Xcel Energy.

A copy of this filing was sent to the GM Transmission, LLC and Northern States Power Company d/b/a Xcel Energy.

Comment Date: October 23, 2002.

9. Quonset Point Cogen, L.P.

[Docket No. ER03-6-000]

Take notice that on October 2, 2002, Quonset Point Cogen, L.P. and PSEG Energy Technologies Inc. (Applicants) filed with the Federal Energy Regulatory Commission a Thermal and Electric Energy Purchase Agreement under Section 205 of the Federal Power Act. Applicants request an effective date of November 1, 2002.

Comment Date: October 23, 2002.

10. Public Service Company of New Hampshire

[Docket No. ER03-7-000]

Take notice that on October 2, 2002, Northeast Utilities Service Company (NUSCO), on behalf of its affiliate, Public Service Company of New Hampshire (PSNH), filed the executed Interconnection and Operations Agreement (IOA) by and between PSNH and Hawkeye Funding, Limited Partnership (Hawkeye), designated as Original Service Agreement No. 93 under Northeast Utilities System Companies' Open Access Transmission Tariff (Tariff No. 9). The IOA is a new agreement establishing the terms and conditions under which PSNH will provide interconnection service to Hawkeye's nominal 525-megawatt combined-cycle generating facility in Newington, New Hampshire.

NUSCO states that a copy of this filing has been mailed to Hawkeye and that Hawkeye fully consents to and supports this filing. NUSCO and Hawkeye request an effective date for the IOA of September 30, 2002, and request any waivers of the Commission's regulations that may be necessary to permit such an effective date.

Comment Date: October 23, 2002.

11. Southern Company Services, Inc.

[Docket No. ER03-8-000]

Take notice on October 2, 2002, Southern Company Services, Inc. (SCS), acting on behalf of Georgia Power Company (Georgia Power), tendered for filing the Amendment to the Interchange Contract Between Georgia Power and Crisp County Power Commission (Crisp County) dated as of September 27, 2002 (the Amendment). The Amendment modifies that certain Interchange Contract between Georgia Power and Crisp County dated as of July 1, 1980. The amended Interchange Contract has been designated as First Revised Rate Schedule FERC No. 803.

The Amendment revises Service Schedule B and Service Schedule C of the Interchange Contract. SCS has requested an effective date of October 3, 2002, for the Amendment.

Comment Date: October 23, 2002.

12. Westar Energy, Inc.

[Docket No. ER03-9-000]

Take notice that on October 2, 2002, Westar Energy, Inc. (Westar Energy) filed a Notification of Change in Status and Petition for Acceptance of Revised Market Rate Schedules to reflect (1) Westar Energy's name change from Western Resources, Inc. and (2) cancellation of Westar Energy's proposed merger with Public Service Company of New Mexico, all as more fully described in the Application.

Comment Date: October 23, 2002.

13. ONEOK Energy Marketing and Trading Company, L.P.

[Docket No. ER03-10-000]

Take notice that on October 2, 2002, ONEOK Energy Marketing and Trading Company, L.P. (OEMT) tendered for filing Electric Tariff, Original Volume No. 1, which will supercede ONEOK Power Marketing Company's (OPMC) FERC Electric Tariff, Original Volume No. 1. This filing is the result of the merger by and between OEMT and OPMC, which was consummated on October 1, 2002. OEMT requests an effective date of April 1, 2001.

A copy of the filing was served upon the Oklahoma Corporation Commission.

Comment Date: October 23, 2002.

14. Louisville Gas and Electric Company/Kentucky Utilities Company

[Docket No. ER03-11-000]

Take notice that on October 3, 2002, Louisville Gas and Electric Company (LG&E)/Kentucky Utilities (KU) (hereinafter Companies) tendered for filing an unexecuted unilateral Service Sales Agreement between Companies and Southern Illinois Power Cooperative under the Companies' Rate Schedule MBSS.

Comment Date: October 24, 2002.

15. MidAmerican Energy Company

[Docket No. ER03-12-000]

Take notice that on October 3, 2002, MidAmerican Energy Company (MidAmerican), 401 Douglas Street, P. O. Box 778, Sioux City Iowa 51102, filed with the Federal Energy Regulatory Commission (Commission) an Electric Transmission Interconnection Agreement between Iowa Public Service Company n/k/a MidAmerican Energy Company, dated March 1, 1991, which incorporates the Fifth Amendment to the Agreement, dated June 28, 2002. The Agreement is pursuant to MidAmerican's Open Access Transmission Tariff.

MidAmerican has served a copy of the filing on the Iowa Utilities Board, the Illinois Commerce Commission and the South Dakota Public Utilities Commission.

Comment Date: October 24, 2002.

16. New York Independent System Operator, Inc.

[Docket No. ER03-13-000]

Take notice that on October 3, 2002, the New York Independent System Operator, Inc. (NYISO) filed revisions to its Market Administration and Control Area Services Tariff (Services Tariff) to implement an Unforced Capacity Deliverability Rights (UDR) product in the Installed Capacity market in New York.

The NYISO has served a copy of this filing to all parties that have executed Service Agreements under the NYISO's Open-Access Transmission Tariff or Services Tariff, the New York State Public Service Commission and to the electric utility regulatory agencies in New Jersey and Pennsylvania.

Comment Date: October 24, 2002.

17. Southwest Power Pool, Inc.

[Docket No. ER03-14-000

Take notice that on October 3, 2002, Southwest Power Pool, Inc. (SPP) filed changes to the SPP Open Access Transmission Tariff (SPP Tariff) intended to implement certain rate changes applicable to the Southwestern Power Administration pricing zone. SPP seeks an effective date of October 1, 2002 for these changes.

A copy of this filing was served on all transmission customers under the SPP Tariff and on all affected state commission.

Comment Date: October 24, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-26259 Filed 10-15-02; 8:45 am]

BILLING CODE 6717-01-P